DEPARTMENT OF JUSTICE

[OMB Number 1121-0249]

Agency Information Collection Activities; Proposed eCollection eComments Requested; Extension of a Currently Approved Collection: Mortality in Correctional Institutions (State Prisons)

AGENCY: Bureau of Justice Statistics, Department of Justice.

ACTION: 30-Day notice.

SUMMARY: The Department of Justice (DOJ), Office of Justice Programs, Bureau of Justice Statistics, will be submitting an extension to an existing information collection to the Office of Management and Budget (OMB) for review and approval in accordance with the Paperwork Reduction Act of 1995.

DATES: Comments are encouraged and will be accepted for 30 days until April 5, 2019.

FOR FURTHER INFORMATION CONTACT: If you have additional comments, especially on the estimated public burden or associated response time, suggestions, or need a copy of the proposed information collection instrument with instructions or additional information, please contact E. Ann Carson, Statistician, 810 Seventh Street NW, Washington, DC 20531 (email: elizabeth.carson@usdoj.gov; telephone: 202-616-3496).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Mortality in Correctional Institutions (State Prisons) (MCI-State Prisons).

3. The agency form number, if any, and the applicable component of the Department sponsoring the collection:

The MCI-State Prisons collection currently includes the following forms:

• NPS-4: Annual Summary of Inmate Deaths in State Prisons. Annually, this form is sent to the 50 state DOCs to collect the number of state prisoner deaths in a calendar year.

• NPS-4A: State Prison Inmate Death Report Form. Annually, this form is sent to the 50 state DOCs to collect details about each state prisoner death.

The applicable component within the Department of Justice is the Bureau of Justice Statistics (BJS), in the Office of Justice Programs.

BJS proposes to transfer the MCI-Jails information collection from the currently approved OMB collection under control number 1121-0094, where it was bundled with the Annual Survey of Jails and the Survey of Jails in Indian Country collections in 2015, to this collection (OMB Control Number 1121-0249, expiration 03/31/2019) to form a single mortality collection program.

The combined mortality collection would include the 50 state departments of corrections (DOCs) plus approximately 3,000 local jail jurisdictions and would collect data on the number and characteristics of inmate deaths in the custody of state and local correctional facilities.

Prior to 2015, BJS collected mortality data from both state prisons and local jails under the OMB Control Number 1121-0249. In 2015, the Mortality in Correctional Institutions (Jails) (MCI-Jails) portion of the collection was bundled with the Annual Survey of Jails (ASJ) and the Survey of Jails in Indian Country (SJIC) in an attempt to consolidate the response burden placed on jails. However, the overlap among these three collections is small, both in terms of jails covered in each and context collected.

• MCI-Jails requests annual data from about 3,000 jail jurisdictions on deaths, the confined population as of December 31, average daily population (ADP), number of holds for other jurisdictions, and number of admissions to the jail during the calendar year.

• The ASJ samples approximately 900 local jails, and provides data to estimate the number and characteristics of local jail inmates nationwide. The ASJ collects population information, including the number of confined inmates, number of individuals supervised in the community by local jails, average daily population, and the number of holds for other authorities as of June 30. The ASJ also obtains data on inmate movements, including the number of admissions and discharges; facility characteristics, including rated and peak capacities and staffing; and inmate characteristics, including race and ethnicity, sex, age group (adult or juvenile), primary offense, and conviction status.

• The SJIC collects data from Indian country jails that are not part of either the ASJ or the MCI-Jails collections. The SJIC collects information from confinement facilities, detention centers, jails, and other facilities operated by tribal authorities or the Bureau of Indian Affairs.

Although there is some duplication in data collected by the ASJ and MCI-Jails, the reference dates are different and the ASJ is a sample, whereas MCI-Jails is a full enumeration of jail jurisdictions. Due to seasonal fluctuations in jail populations, and fewer inmates held at year-end (December 31), the ASJ uses the last weekday in June as its reference date. MCI-Jails uses December 31 as its reference date, and more importantly, uses ADP from January 1 to December 31 as the denominator in calculating mortality rates, which is consistent with the time period represented by the numerator, the number of deaths in a calendar year.

The following forms are proposed to be transferred from OMB Control Number 1121-0094 to OMB Control Number 1121-0249:

• CJ-9: Death Report on Inmates under Jail Jurisdiction. This form goes to all jail jurisdictions that are operated by a county or city. Jail administrators are requested to complete the form if their facilities had one or more deaths in a calendar year.

• CJ-10: Death Report on Inmates in Private and Multi-Jurisdictional Jails. This form goes to all confinement facilities administered by two or more local governments (regional jails) and privately owned or operated confinement facilities. Jail administrators are requested to complete the form if their facilities had one or more deaths in a calendar year.

• CJ-9A: Annual Summary on Inmates under Jail Jurisdiction. This form goes to county and city jail jurisdictions. The form collects the number of male and female deaths in custody in a calendar year, the number of males and females confined as of December 31, the number of male and female admissions during the year, the average daily population by sex, and the number of persons confined on behalf of other agencies.

• CJ-10A: Annual Summary on Inmates in Private and Multi-Jurisdictional Jails. This form goes to confinement facilities administered by two or more local governments (regional jails) and to privately owned or operated facilities. The form collects the same information as Form CJ-9A.

4. Affected public who will be asked or required to respond, as well as a brief abstract:

The combined MCI for prisons and jails would collect annual data from the 50 state departments of corrections and roughly 3,000 jail jurisdictions on the number and nature of deaths in their custody.

5. An estimate of the total number of respondents and the amount of time estimated for an average respondent to respond:

Respondent | Type of contact | Number of total data respondents | Number of responses | Average reporting time (minutes) | Total burden (hours)
State prisons | Annual summary form (NPS-4) submission—online and mail | 50 | 50 | 5 | 4
| Death record form (NPS-4A) submission—online and mail | 50 | 3,750 | * 30 | 1,875
| Data quality follow-up—email and telephone | 50 | 46 | 15 | 12
| Initial verification call—telephone | 50 | 50 | 8 | 7
Total for state prisons |  | 50 | 3,800 |  | 1,898
Local jails | Annual summary form (CJ9A, CJ-10A) submission—online and mail | 3,000 | 3,000 | 15 | 750
| Death record form (CJ-9, CJ-10) submission—online and mail | 3,000 | 1,100 | * 30 | 550
| Data quality follow-up—email and telephone | 3,000 | 900 | 15 | 225
| Initial verification call—telephone | 3,000 | 3,000 | 8 | 400
Total for local jails |  | 3,000 | 4,100 |  | 1,925
Total hours for MCI (state prison and local jail) |  | 3,050 | 7,900 |  | 3,823
* Minutes per death.

State Prison Respondent Burden. Reporting time estimates from state prison authorities are based on previous MCI data collection cycles. Based on 2016 data, 50 DOCs submitted data on 3,750 inmate deaths. The average response time for the death report form (NPS-4A) is 30 minutes per death. Given these assumptions, we expect that in any data collection year:

• 50 state prison respondents will submit 3,750 death reports, with an average response time of 30 minutes per death report form, for a total burden of 1,875 hours.

Each state prison respondent will need to fill out a one-item annual summary form (NPS-4) with an estimated reporting time of 5 minutes. We expect the response time to remain constant:

• 50 state prison respondents will each submit an annual summary form, with an average response time of 5 minutes per annual summary form, for a total burden of 4 hours.

The 50 state prison respondents will be called to participate in the verification call (with an estimated reporting time of 8 minutes) prior to the start of the data collection. We expect that in any data collection year:

• 50 state prison respondents will have an average response time of 8 minutes per verification call, for a total burden of 7 hours.

Data quality follow-up occurs between May and July of each collection year and involves confirming, clarifying or correcting data reported on the NPS-4 and NPS-4A forms submitted by the respondent. Not all DOC records submitted require data quality follow-up. An average of 46 respondents require some level of follow-up annually, which averages about 15 minutes per respondent, for a total burden of 12 hours.

Thus, the total burden of hours associated with the prison data collection is 1,898 hours, with an average burden of 38 hours per year across the 50 state prison respondents. This is an increase in burden from the 2016 MCI clearance package, due to an increase in the number of deaths reported.

Local Jail Respondent Burden. Reporting time estimates from local jail authorities are based on previous MCI data collection cycles. Based 2016 data, approximately 3,000 DOCs submitted data on 1,100 inmate deaths. The average response time for the death report form (CJ-9 or CJ-10) is 30 minutes per death. Given these assumptions, we expect that in any data collection year:

• 3,000 local jail respondents will submit 1,100 death reports, with an average response time of 30 minutes per death report form, for a total burden of 550 hours.

Each local jail respondent will need to fill out a five-item annual summary form (CJ-9A or CJ-10A) with an estimated reporting time of 15 minutes. We expect the response time to remain constant:

• 3,000 local jail respondents will each submit an annual summary form, with an average response time of 15 minutes per annual summary form, for a total burden of 750 hours.

The 3,000 local jail respondents will be called to participate in the verification call (with an estimated reporting time of 8 minutes) prior to the start of the data collection. We expect that in any data collection year:

• 3,000 local jail respondents will have an average response time of 8 minutes per verification call, for a total burden of 400 hours.

Data quality follow-up occurs between May and July of each collection year and involves confirming, clarifying, or correcting data reported on the CJ-9/CJ-9A or CJ-10/CJ-10A forms submitted by the respondent. Not all local jail records submitted require data quality follow-up. An average of 900 local jail respondents require some level of follow-up annually, which averages about 15 minutes per respondent, for a total burden of 225 hours.

The total burden of hours associated with the local jail data collection is 1,925 hours, with an average burden of 39 minutes per year across the 3,000 local jail respondents. This is an increase in burden from the 2016 MCI-Jails clearance package (OMB control number 1121-0094), due to an increase in the number of deaths reported and in the number of local jail respondents who will need to be contacted for data quality follow-up, based on recent years' data collections.

Combined State Prison/Local Jail Burden estimate. The total burden estimate for MCI across all 3,050 state prisons and local jails is 3,823 hours per year.

If additional information is required, contact: Melody Braswell, Department Clearance Officer, United States Department of Justice, Justice Management Division, Policy and Planning Staff, Two Constitution Square, 145 N Street NE, 3E.405A, Washington, DC 20530.

Dated: January 30, 2019.
Melody Braswell,
Department Clearance Officer for PRA, U.S. Department of Justice.

[FR Doc. 2019-00852 Filed 2-1-19; 8:45 am]

BILLING CODE 4410-18-P